LEGAL SERVICES CORPORATION

Notice to LSC Grantees of Application Process for Subgranting 2021 Basic Field Grant Funds Midyear

AGENCY: Legal Services Corporation (LSC).

ACTION: Notice of application dates and format for applications to make midyear subgrants of 2021 Basic Field Grant funds.

SUMMARY: The Legal Services Corporation (LSC) is the national organization charged with administering Federal funds provided for civil legal services to low-income people. LSC is announcing the submission dates for applications to make subgrants of Basic Field Grant funds starting after April 15, 2021 but before January 1, 2022. LSC is also providing information about where applicants may locate subgrant application forms and directions for providing the information required in the application.

DATES: See the SUPPLEMENTARY INFORMATION section for application dates.

ADDRESSES: Legal Services Corporation—Office of Compliance and Enforcement, 3333 K Street NW, Third Floor, Washington, DC 20007-3522.

FOR FURTHER INFORMATION CONTACT: Megan Lacchini, Office of Compliance and Enforcement by email at lacchinim@lsc.gov or (202) 295-1506, or visit the LSC website at http://www.lsc.gov/grants-grantee-resources/grantee-guidance/how-apply-subgrant.

SUPPLEMENTARY INFORMATION: Under 45 CFR part 1627, LSC must publish, on an annual basis, “notice of the requirements concerning the format and contents of the application annually in the Federal Register and on its website.” 45 CFR 1627.4(b). This Notice and the publication of the Subgrant Application Forms on LSC's website satisfy section1627.4(b)'s notice requirement for midyear subgrants of Basic Field Grant funds. Only current or prospective recipients of LSC Basic Field Grants may apply for approval to subgrant these funds.

An applicant must submit an application to make a midyear subgrant of LSC Basic Field Grant funds at least 45 days in advance of the subgrant's proposed effective date. 45 CFR 1627.4(b)(2). Applications must be submitted through GrantEase.

All applicants must provide answers to the application questions in GrantEase and upload the following documents:

• A draft subgrant agreement (with the required terms provided in LSC's Subgrant Agreement Template); and

• A subgrant budget (using LSC's Subgrant Budget Template)

Applicants seeking to subgrant to a new subrecipient that is not a current LSC grantee, or to renew a subgrant with an organization that is not a current LSC grantee in a year in which the applicant is required to submit a full funding application, must also upload:

• The subrecipient's accounting manual;

• The subrecipient's most recent audited financial statements;

• The subrecipient's current cost allocation policy (if not in the accounting manual);

• The subrecipient's 45 CFR 1635.3(c) recordkeeping policy (if not in the accounting manual)

LSC's Subgrant Agreement Template and the Subgrant Budget Template are available on LSC's website at http://www.lsc.gov/grants-grantee-resources/grantee-guidance/how-apply-subgrant.

LSC encourages applicants to use LSC's Subgrant Agreement Template as a model subgrant agreement. If the applicant does not use LSC's Template, the proposed agreement must include, at a minimum, the substance of the provisions of the Template.

Once submitted, LSC will evaluate the application and provide applicants with instructions on any needed modifications to the submitted documents or Draft Agreement provided with the application. The applicant must then upload a final and signed subgrant agreement through GrantEase by the date requested.

As required by 45 CFR 1627.4(b)(3), LSC will inform applicants of its decision to disapprove, approve, or request modifications to the subgrant by no later than the subgrant's proposed effective date.

Dated: April 12, 2021.
Stefanie Davis,
Senior Assistant General Counsel.

[FR Doc. 2021-07741 Filed 4-14-21; 8:45 am]

BILLING CODE 7050-01-P